DEPARTMENT OF STATE

[Public Notice 6656]

Issuance of an Amended Presidential Permit Authorizing the Construction, Operation, and Maintenance of an International Bridge Near McAllen, TX, at the International Boundary Between the United States and Mexico

SUMMARY: At the request of the permittee, the Department of State has amended the Presidential permit, originally issued in 1999, that authorizes the Cities of McAllen, Hidalgo, and Mission, Texas to construct, operate, and maintain an international bridge known as “Anzalduas Bridge” near McAllen, Texas, at the international boundary between the United States and Mexico. The amendment removes an article in the original permit that limited initial operating hours of the bridge to twelve hours per day. With this restriction removed, the Department of Homeland Security's Bureau of Customs and Border Patrol, working with local and Mexican authorities, can set the bridge's hours of operation in accordance with demand and available resources. In making its determination to amend the permit, the Department provided public notice of the proposed amendment and provided the opportunity for comment (74 FR 12173, March 23, 2009) and also consulted with other federal agencies, as required by Executive Order 11423, as amended.

FOR FURTHER INFORMATION CONTACT: Mr. Daniel Darrach, U.S.-Mexico Border Affairs Coordinator, via e-mail at WHA-BorderAffairs@state.gov; by phone at 202-647-9894; or by mail at Office of Mexican Affairs—Room 3909, Department of State, 2201 C St., NW., Washington, DC 20520. Information about Presidential permits is available on the Internet at http://www.state.gov/p/wha/rt/permit/.

SUPPLEMENTARY INFORMATION: The following is the text of the amended permit:

By virtue of the authority vested in me as Acting Assistant Secretary of State for the Bureau of Economic, Energy, and Business Affairs under Executive Order 11423, 33 FR 11741 (1963), as amended by Executive Order 12847 of May 17, 1993, 58 FR 29511 (1993), Executive Order 13284 of January 23, 2003, 68 FR 4075 (2003), and Executive Order 13337 of April 30, 2004, 69 FR 25299 (2004), and Department of State Delegation of Authority 322 of January 16, 2009; having considered the environmental effects of the proposed action in accordance with the National Environmental Policy Act of 1969 (83 Stat. 852; 42 U.S.C. 4321 et seq.) and other statutes relating to environmental concerns; having considered the proposed action in accordance with the National Historic Preservation Act (80 Stat. 917, 16 U.S.C. 470f et seq.); and having requested and received the views of various of the federal departments and other interested persons; I hereby grant permission, subject to the conditions herein set forth, to the Cities of McAllen, Hidalgo, and Mission, Texas (hereinafter referred to as “permittee”), to construct, operate, and maintain an international vehicular and pedestrian bridge southwest of McAllen, Texas, and adjacent to Reynosa, Tamaulipas, Mexico.

The term “facilities” as used in this permit means the bridge, its approaches and any land, structure or installations appurtenant thereto, as set forth in Alternative #3 in the “Anzalduas International Crossing U.S.-Side Improvements, Final Environmental Assessment” dated March 1996, as amended and supplemented by the Department of State (the “EA”).

The term “United States facilities” as used in this permit means that part of the facilities in the United States.

This permit is subject to the following conditions:

Article 1. The United States facilities herein described, and all aspects of their operation, shall be subject to the conditions, provisions, and requirements of this permit or any amendment thereof; further that this permit may be terminated at the will of the Secretary of State or the Secretary's delegate or may be amended by the Secretary of State or the Secretary's delegate at will or upon proper application therefore; further that the permittee shall make no substantial change in the location of the United States facilities or in the operation authorized by this permit until such changes have been approved by the Secretary of State or the Secretary's delegate.

Article 2. (1) Standards for, and the manner of, the construction, operation, and maintenance of the United States facilities shall be subject to inspection and approval by the representatives of appropriate federal or state agencies. The permittee shall allow duly authorized officers and employees of such agencies free and unrestricted access to said facilities in the performance of their official duties.

(2) Approval of the United States Coast Guard in conformity with Section 5 of the International Bridge Act of 1972 (33 U.S.C. 535c), by virtue of authority delegated to the Commandant, U.S. Coast Guard by Section 1.46(q) of Title 49, Code of Federal Regulations, shall be obtained prior to initiation of construction.

Article 3. The permittee shall comply with all federal and state laws and regulations regarding the construction, operation, and maintenance of the United States facilities, and with all applicable industrial codes.

Article 4. Upon the termination, revocation, or surrender of this permit, and unless otherwise agreed by the Secretary of State or the Secretary's delegate, the United States facilities in the immediate vicinity of the international boundary shall be removed by and at the expense of the permittee within such time as the Secretary of State or the Secretary's delegate may specify, and upon failure of the permittee to remove this portion of the United States facilities as ordered, the Secretary of State or the Secretary's delegate may direct that possession of such facilities be taken and that they be removed at the expense of the permittee; and the permittee shall have no claim for damages by reason of such possession or removal.

Article 5. If, in the future, it should appear to the United States Coast Guard and the Secretary of Homeland Security or the Secretary's delegate that any facilities or operations permitted hereunder cause unreasonable obstructions to the free navigation of any of the navigable waters of the United States, the permittee may be required, upon notice from the Secretary of Homeland Security or the Secretary's delegate, to remove or alter such of the facilities as are owned by it so as to render navigation through such waters free and unobstructed.

Article 6. This permit and the operation of the United States facilities hereunder shall be subject to the regulations issued by any competent agency of the United States Government, including but not limited to the United States Coast Guard, the Department of Homeland Security, and the United States Section of the International Boundary and Water Commission (USIBWC). This permit shall continue in force and effect only so long as the permittee shall continue the operations hereby authorized in exact accordance with such limitations, terms, and conditions.

Article 7. When, in the opinion of the President of the United States, the national security of the United States demands it, due notice being given by the Secretary of State or the Secretary's delegate, the United States shall have the right to enter upon and take possession of any of the United States facilities or parts thereof; to retain possession, management, or control thereof for such length of time as may appear to the President to be necessary; and thereafter to restore possession and control to the permittee. In the event that the United States shall exercise such right, it shall pay to the permittee just and fair compensation for the use of such United States facilities upon the basis of a reasonable profit in normal conditions, and the cost of restoring said facilities to as good condition as existed at the time of entering and taking over the same, less the reasonable value of any improvements that may have been made by the United States.

Article 8. Any transfer of ownership or control of the United States facilities or any part thereof shall be immediately notified in writing to the United States Department of State, including the submission of a proper identification by the transferee. This permit shall remain in force subject to all the conditions, permissions and requirements of this permit and any amendments thereof unless terminated or amended by the Secretary of State or the Secretary's delegate.

Article 9. (1) The permittee shall acquire such right-of-way grants, easements, permits, and other authorizations as may become necessary and appropriate.

(2) The permittee shall save harmless the United States from any claimed or adjudged liability arising out of the construction, completion, or maintenance of the facilities.

(3) The permittee shall maintain the United States facilities and every part thereof in a condition of good repair for their safe operation.

Article 10. (1) The permittee shall provide to the General Services Administration (GSA), at no cost to the federal government, a site of 90 acres that is adequate and acceptable to GSA (that is, environmentally compliant and construction ready) on which to construct border station facilities at the United States terminal of the bridge.

(2) If permanent facilities are not completed and accepted by the GSA by 2005, the permittee shall provide, at no cost to the federal government, a “temporary” border station facility to include four traffic lanes and all related processing and support facilities until such time as permanent facilities have been completed and accepted by GSA.

(3) The permittee shall construct appropriate southbound inspection facilities for vehicle, pedestrian, and commercial traffic to include canopies and such features as may be needed to address security and safety concerns, prior to the opening of the bridge.

(4) The border station facilities used by agencies of the United States Government shall be owned by GSA.

(5) The permittee shall comply fully with all National Environmental Policy Act and National Historic Preservation Act mitigation provisions and stipulations for transfer of the site to GSA.

Article 11. (1) The permittee shall take all appropriate measures to prevent or mitigate adverse environmental impacts or disruption of significant archeological resources in connection with the construction, operation and maintenance of the United States facilities, including those measures set forth in the EA and in the Department's Finding of No Significant Impact dated July 23, 1999.

(2) The permittee shall comply with all of its obligations under the Four-Party Land and Dedication Agreement among the United States Department of the Interior Fish and Wildlife Service, AgHOC, Inc., the City of McAllen, Texas, and the McAllen/Hidalgo/Mission International Bridge Board of July 26, 1995; as amended by The First Amendment to the Four-Party Land and Dedication Agreement dated April 1, 1999, and signed April 15, 1999; and with all of the terms and provisions of Resolution No. 1999-12 adopted by the McAllen City Commission at its March 22, 1999, meeting.

(3) Before beginning construction the permittee shall: conclude satisfactory arrangements with appropriate federal and state agencies that will provide the assurance to the USIBWC that the bridge and associated facilities will not in any way present an obstruction or deflection to the normal flows or flood flows designated by the USIBWC in the reach of the international part of the Rio Grande River; acquire the appropriate permits and licenses from the USIBWC for crossing the interior floodways and for direct or indirect use of facilities associated with the Lower Rio Grande Flood Control Project; and obtain the approval of the U.S. Commissioner of the IBWC that the project is consistent with the terms of boundary and water treaties between the United States and Mexico and other international agreements in force.

(4) If at a future date the permittee determines that the base flood elevations or the Special Flood Hazard Area will be affected as a result of the proposed project, it shall submit the appropriate scientific or technical data in accordance with the requirements of Part 65 of the National Flood Insurance Program and request a map revision.

Article 12. The permittee shall notify the Department of State and the Texas Historical Commission in the event historic or archaeological resources are discovered during the course of construction activity, and the permittee shall cease such construction activity in the immediate vicinity of those resources while preparing documentation required by Section 106 of the National Historic Preservation Act, 16 U.S.C. 470f, and Section 303 [formerly 4(f)] of the Department of Transportation Act, 49 U.S.C. 303, to address particular sites directly impacted by the project that are identified as requiring in situ preservation.

Article 13. The permittee shall comply with all agreed actions and obligations undertaken to be performed by it in the Application and Final Environmental Assessment dated March 1996.

Article 14. The permittee shall file with the appropriate agencies of the United States Government such statements or reports under oath with respect to the United States facilities, and/or permittee's actions in connection therewith, as are now or may hereafter be required under any laws or regulations of the United States Government or its agencies.

Article 15. The permittee shall provide written notice to the Department of State at such time as the construction authorized by this permit is begun, and again at such time as construction is completed, interrupted, or discontinued.

Article 16. (1) The permittee shall begin construction no earlier than April 1, 2003, and shall open the bridge no earlier than January 1, 2005, unless prior to those dates the Secretary of State or the Secretary's delegate determines that the United States Congress has provided sufficient funds for construction, operation, and support of the Anzalduas International Crossing.

(2) The permittee shall begin construction of permanent cargo import facilities no earlier than January 1, 2015, unless prior to that date the Average Northbound Cargo Traffic at the Pharr International Bridge reaches 15,000 vehicles per week.

In witness thereof, I, David D. Nelson, Acting Assistant Secretary of State for the Bureau of Economic, Energy, and Business Affairs, have hereunto set my hand this 27th day of May 2009, in the City of Washington, District of Columbia.

Dated: June 1, 2009.
Alex Lee,
Director, Office of Mexican Affairs, Department of State.

[FR Doc. E9-13336 Filed 6-5-09; 8:45 am]

BILLING CODE 4710-29-P